ENVIRONMENTAL PROTECTION AGENCY

[EPA-HQ-OPP-2022-0624; FRL-10087-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period July 1, 2021, to June 30, 2022, to control unforeseen pest outbreaks.

FOR FURTHER INFORMATION CONTACT: Marietta Echeverria, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2022-0624, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests for a specific crop/site on a limited acreage, or other unit for treatment (e.g., square footage, cartons of produce in a particular State. Most emergency exemptions are specific exemptions.

2. “Quarantine” and “public health” exemptions are emergency exemptions issued for quarantine or public health purposes. These are requested less frequently than specific exemptions.

3. A “crisis exemption” is initiated by a State or Federal agency (and is concurred upon by EPA) when there is insufficient time to request and obtain EPA permission for emergency use of a pesticide under one of the other types of emergency exemptions.

EPA may deny an emergency exemption request: If the State or Federal agency cannot demonstrate that an emergency exists, if the use poses unacceptable risks to the environment, or if EPA cannot reach a conclusion that the proposed pesticide use is likely to result in “a reasonable certainty of no harm” to human health, including exposure of infants and children to residues of the pesticide.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized, the pests, the crop or use for which authorized, number of acres or other unit for treatment (if applicable), and the effective date of the exemption. EPA also gives the Federal Register citation for the time-limited tolerance, if any, and notes when a Notice of Receipt (if required under 40 CFR 166.24) was published in the Federal Register.

III. Emergency Exemptions

A. U.S. States and Territories

Alabama

Department of Agriculture and Industries

Specific exemption: EPA authorized the use of fluridone on a maximum of 10,000 acres of peanut to control herbicide-resistant Palmer amaranth. Time-limited tolerances in connection with a previous action support this emergency use and are established in 40 CFR 180.420(b). The authorization was effective April 15, 2022.

Arkansas

Department of Agriculture

Crisis exemptions: EPA concurred upon a crisis exemption declared by the Arkansas Department of Agriculture for the use of methoxyfenozide to control fall armyworm in rice. Time-limited tolerances in connection with a previous action support this use and are established in 40 CFR 180.544(b). The crisis exemption was effective July 28, 2021.

EPA concurred upon a crisis exemption declared by the Arkansas Department of Agriculture for the use of thiamethoxam to control severe infestations of rice stinkbug. Time-limited tolerances in connection with a previous action support this use and are established in 40 CFR 180.565(b). The crisis exemption was effective August 13, 2021.

Specific exemptions: EPA authorized the use of methoxyfenozide on a maximum of 250,000 acres of rice to control fall armyworm. Time-limited tolerances in connection with a previous action support this emergency use and are established in 40 CFR 180.544(b). The authorization was effective September 29, 2021.

EPA authorized the use of thiamethoxam on a maximum of 300,000 acres of rice to control rice stink bug. Time-limited tolerances in connection with a previous action support this emergency use and are established in 40 CFR 180.565(b). The authorization was effective October 15, 2021.

EPA authorized the use of fluridone on a maximum of 5,000 acres of peanut to control herbicide-resistant Palmer amaranth. Time-limited tolerances in connection with a previous action support this emergency use and are established in 40 CFR 180.420(b). The authorization was effective April 15, 2022.

California

Department of Pesticide Regulation

Specific exemptions: EPA authorized the use of kasugamycin on a maximum of 100,000 acres of almond trees to control bacterial blast. Time-limited tolerances in connection with a previous action support this emergency use and are established in 40 CFR 180.614(b). The authorization was effective February 1, 2022.

EPA authorized the use of methoxyfenozide on a maximum of 102,000 acres of rice to control armyworm and Western Yellowstriped Armyworm. Time-limited tolerances in connection with a previous action support this emergency use and are established in 40 CFR 180.544(b). The authorization was effective May 1, 2022.

Georgia

Department of Agriculture

Public Health Exemption: EPA authorized the use of triethylene glycol formulated as Grignard Pure, an unregistered product for air treatment in indoor spaces, (occupied and unoccupied) to help control the spread of Severe Acute Respiratory Syndrome Coronavirus 2 or SARS-CoV-2. The authorization was effective February 15, 2022.

Hawaii

Department of Agriculture

Specific exemption: EPA authorized the use of fluxapyroxad and pyraclostrobin (co-formulated in Priaxor™ Xemium® Brand Fungicide) on a maximum of 8,000 acres of coffee to control coffee leaf rust. Import tolerances in connection with prior registration actions are established in 40 CFR 180.166 for fluxapyroxad and 40 CFR 180.582 for pyraclostrobin and are sufficient to support this use. The authorization was effective May 19, 2022.

Louisiana

Department of Agriculture and Forestry

Specific exemption: EPA authorized the use of triclopyr on a maximum of 450,000 acres of sugarcane to control divine nightshade. A time-limited tolerance in connection with a previous action supports this emergency use and is established in 40 CFR 180.417(b). The authorization was effective October 1, 2021.

Maryland

Department of Agriculture

Public Health Exemptions: EPA authorized the use of triethylene glycol formulated as Grignard Pure, an unregistered product for air treatment in indoor spaces, (occupied and unoccupied) to help control the spread of Severe Acute Respiratory Syndrome Coronavirus 2 or SARS-CoV-2. The authorization was effective July 1, 2021.

EPA authorized the use of triethylene glycol formulated as Grignard Pure, an unregistered product for air treatment in indoor spaces, (occupied and unoccupied) to help control the spread of Severe Acute Respiratory Syndrome Coronavirus 2 or SARS-CoV-2. The authorization was effective February 15, 2022.

Specific Exemption: EPA authorized the use of bifenthrin on a maximum of 3,570 acres of apples, nectarines and peaches to control brown marmorated stinkbug. Time-limited tolerances in connection with previous actions supported this emergency use and were established in 40 CFR 180.442(b). Permanent tolerances have since been established for these commodities at 40 CFR 180.442(a). The authorization was effective August 5, 2021.

Massachusetts

Department of Agriculture and Resource

Specific exemption: EPA authorized the use of propyzamide on a maximum of 5,000 acres of cranberries to control dodder. A time-limited tolerance in connection with a previous action supports this emergency use and is established in 40 CFR 180.317(b). The authorization was effective March 4, 2022.

Michigan

Department of Agriculture and Rural Development

Specific Exemption: EPA authorized the use of acifluorfen on a maximum of 48,000 acres of sugar beets for postemergence control of invasive Amaranthus (pigweed) spp., waterhemp, and Palmer amaranth. Time-limited tolerances in connection with a previous action support this emergency use and are established in 40 CFR 180.383(b). The authorization was effective April 28, 2022.

Quarantine Exemption: EPA authorized the use of imidacloprid on a maximum of 1,566 acres of Eastern Hemlock trees to control Hemlock Wooly Adelgid. The authorization was effective August 12, 2021.

Minnesota

Department of Agriculture

Specific exemption: EPA authorized the use of acifluorfen on a maximum of 96,000 acres of sugar beets for postemergence control of glyphosate-resistant waterhemp. Time-limited tolerances in connection with a previous action support this emergency use and are established in 40 CFR 180.383(b). The authorization was effective May 16, 2022.

Mississippi

Department of Agriculture and Commerce

Crisis exemption: EPA concurred upon a crisis exemption declared by the Mississippi Department of Agriculture and Commerce for the use of methoxyfenozide to control fall armyworm in rice. Time-limited tolerances in connection with a previous action support this use and are established in 40 CFR 180.544(b). The crisis exemption was effective July 28, 2021.

Specific exemptions: EPA authorized the use of methoxyfenozide on a maximum of 60,000 acres of rice to fall armyworm. Time-limited tolerances in connection with a previous action support this emergency use and are established in 40 CFR 180.544(b). The authorization was effective September 29, 2021.

EPA authorized the use of fluridone on a maximum of 4,000 acres of peanut to control herbicide-resistant Palmer amaranth. Time-limited tolerances in connection with a previous action support this emergency use and are established in 40 CFR 180.420(b). The authorization was effective April 15, 2022.

Missouri

Department of Agriculture

Specific exemption: EPA authorized the use of fluridone on a maximum of 4,000 acres of peanut to control herbicide-resistant Palmer amaranth. Time-limited tolerances in connection with a previous action support this emergency use and are established in 40 CFR 180.420(b). This authorization was effective April 15, 2022.

Nevada

Department of Agriculture

Public Health Exemptions: EPA authorized the use of triethylene glycol formulated as Grignard Pure, an unregistered product for air treatment in indoor spaces, (occupied and unoccupied) to help control the spread of Severe Acute Respiratory Syndrome Coronavirus 2 or SARS-CoV-2. The authorization was effective July 1, 2021.

EPA authorized the use of triethylene glycol formulated as Grignard Pure, an unregistered product for air treatment in indoor spaces, (occupied and unoccupied) to help control the spread of Severe Acute Respiratory Syndrome Coronavirus 2 or SARS-CoV-2. The authorization was effective February 15, 2022.

New York

Department of Environmental Conservation

Specific Exemption: EPA authorized the use of bifenthrin on a maximum of 7,521 acres of apples, nectarines and peaches to control brown marmorated stinkbug. Time-limited tolerances in connection with previous actions supported this emergency use and were established in 40 CFR 180.442(b). Permanent tolerances have since been established for these commodities at 40 CFR 180.442(a). The authorization was effective August 5, 2021.

North Carolina

Department of Agriculture and Consumer Services

Specific exemption: EPA authorized the postharvest use of thiabendazole on a maximum of 95,000 acres of sweet potatoes to control black rot. A time-limited tolerance in connection with a previous action supported this emergency use and was established in 40 CFR 180.242(b). The authorization was effective July 2, 2021.

North Dakota

Department of Agriculture

Specific exemption: EPA authorized the use of acifluorfen on a maximum of 34,000 acres of sugar beets for postemergence control of glyphosate resistant waterhemp. Time-limited tolerances in connection with a previous action support this emergency use and are established in 40 CFR 180.383(b). The authorization was effective May 16, 2022.

Pennsylvania

Department of Agriculture

Public Health Exemptions: EPA authorized the use of triethylene glycol formulated as Grignard Pure, an unregistered product for air treatment in indoor spaces, (occupied and unoccupied) to help control the spread of Severe Acute Respiratory Syndrome Coronavirus 2 or SARS-CoV-2. The authorization was effective July 1, 2021.

EPA authorized the use of triethylene glycol formulated as Grignard Pure, an unregistered product for air treatment in indoor spaces, (occupied and unoccupied) to help control the spread of Severe Acute Respiratory Syndrome Coronavirus 2 or SARS-CoV-2. The authorization was effective January 14, 2022.

Specific Exemption: EPA authorized the use of bifenthrin on a maximum of 24,973 acres of apples, nectarines and peaches to control the brown marmorated stinkbug. Time-limited tolerances in connection with previous actions supported this emergency use and were established in 40 CFR 180.442(b). Permanent tolerances have since been established for these commodities at 40 CFR 180.442(a). The authorization was effective August 5, 2021.

Tennessee

Department of Agriculture

Public Health Exemption: EPA authorized the use of triethylene glycol formulated as Grignard Pure, an unregistered product for air treatment in indoor spaces, (occupied and unoccupied) to help control the spread of Severe Acute Respiratory Syndrome Coronavirus 2 or SARS-CoV-2. The authorization was effective January 14, 2022.

Texas

Department of Agriculture

Public Health Exemptions: EPA authorized the use of triethylene glycol formulated as Grignard Pure, an unregistered product for air treatment in indoor spaces, (occupied and unoccupied) to help control the spread of Severe Acute Respiratory Syndrome Coronavirus 2 or SARS-CoV-2. The authorization was effective July 1, 2021.

EPA authorized the use of triethylene glycol formulated as Grignard Pure, an unregistered product for air treatment in indoor spaces, (occupied and unoccupied) to help control the spread of Severe Acute Respiratory Syndrome Coronavirus 2 or SARS-CoV-2. The authorization was effective January 14, 2022.

Virginia

Department of Agriculture and Consumer Services

Public Health Exemption: EPA authorized the use of triethylene glycol formulated as Grignard Pure, an unregistered product for air treatment in indoor spaces, (occupied and unoccupied) to help control the spread of Severe Acute Respiratory Syndrome Coronavirus 2 or SARS-CoV-2. The authorization was effective January 14, 2022.

Specific Exemption: EPA authorized the use of bifenthrin on a maximum of 29,000 acres of apples, nectarines and peaches to control the brown marmorated stinkbug. Time-limited tolerances in connection with previous actions supported this emergency use and were established in 40 CFR 180.442(b). Permanent tolerances have been established for these commodities at 40 CFR 180.442(a). The authorization was effective August 5, 2021.

West Virginia

Department of Agriculture

Specific Exemption: EPA authorized the use of bifenthrin on a maximum of 5,986 acres of apples, nectarines and peaches to control the brown marmorated stinkbug. Time-limited tolerances in connection with previous actions supported this emergency use and were established in 40 CFR 180.442(b). Permanent tolerances have since been established for these commodities at 40 CFR 180.442(a). The authorization was effective August 5, 2021.

B. Federal Departments and Agencies

United States Department of Agriculture

Animal and Plant Health Inspector Service

Quarantine Exemptions: EPA authorized the use of sodium hypochlorite on porous and nonporous surfaces to decontaminate from viruses of foot and mouth disease, classical swine fever, and African swine fever. The authorization was effective September 10, 2021.

EPA authorized the use of sodium hydroxide on nonporous surfaces to control prions. The authorization was effective September 24, 2021.

EPA authorized the use of sodium hypochlorite on nonporous surfaces to control prions. The authorization was effective September 24, 2021.

EPA authorized the use of citric acid to treat for disinfection of porous and nonporous surfaces contaminated with foot-and-mouth disease virus, African swine fever virus, low pathogenic avian influenza virus, and highly pathogenic avian flu influenza virus. The authorization was effective March 2, 2022.

EPA authorized the use of a mixture of potassium peroxymonosulfate and propylene glycol for disinfection of nonporous surfaces associated with poultry facilities infected with highly pathogenic avian influenza virus. The authorization was effective March 23, 2022.

National Aeronautics and Space Administration

Specific exemption: EPA authorized the use of ortho-phthaldehyde, immobilized to a porous resin, to treat the International Space Station internal active thermal control system (IATCS) coolant for control of aerobic and microaerophilic water bacteria and unidentified gram-negative rods. This request was granted because, without this use, the ISS would have no means to control organisms in the IATCS since there are no registered alternatives available which meet the required criteria. The emergency request proposed a use of a new (unregistered) chemical and in accordance with the requirements at 40 CFR 166.24(a)(1), a notice of receipt published in the Federal Register on September 15, 2021, to allow a public comment period, which closed on September 30, 2021. The authorization was effective October 7, 2021.

(Authority: 7 U.S.C. 136 et seq.)

Dated: July 28, 2022.
Marietta Echeverria,
Acting Director, Registration Division, Office of Pesticide Programs.

[FR Doc. 2022-16646 Filed 8-3-22; 8:45 am]

BILLING CODE 6560-50-P